DEPARTMENT OF THE INTERIOR

Bureau of Land Management

[AZ-068-03-1610-DR-241E]

Notice of Availability of Record of Decision for the Imperial Sand Dunes Recreation Area Management Plan (RAMP)/Environmental Impact Statement (EIS)

AGENCY: Bureau of Land Management.

ACTION: Notice of availability of Record of Decision (ROD).

SUMMARY: In accordance with the National Environmental Policy Act (NEPA), the Federal Land Policy and Management Act (FLPMA), the Endangered Species Act (ESA), and the Bureau of Land Management (BLM) management policies, the BLM announces the availability of the RAMP Record of Decision for the Imperial Sand Dunes located mainly in the Western Colorado Desert Planning Area and partly in the Northern and Eastern Colorado Desert Planning area. The California State Director will sign the Record of Decision for the Imperial Sand Dunes RAMP which becomes effective immediately.

ADDRESSES: Copies of the Imperial Sand Dunes RAMP/Record Of Decision are available upon request from the Field Manager, El Centro Field Office, Bureau of Land Management, 1661 South 4th Street, El Centro, CA 92243 or via the Internet at http://www.ca.blm.gov.

FOR FURTHER INFORMATION CONTACT: Lynnette Elser, Resource Staff Chief, El Centro Field Office, El Centro, CA 92243, phone: 760-337-4400, e-mail: lelser@ca.blm.gov.

SUPPLEMENTARY INFORMATION: The Imperial Sand Dunes RAMP was developed with broad public participation through a multi-year collaborative planning process. This RAMP addresses management on approximately 158,072 acres of public land in the planning areas. The Imperial Sand Dunes RAMP is designed to achieve or maintain desired future conditions developed through the planning process. It includes a series of management actions to meet the desired resource conditions for native plant populations, wildlife habitats, cultural and visual resources, and recreation.

The approved Imperial Sand Dunes RAMP is essentially the same as Alternative 2 in the Proposed Imperial Sand Dunes RAMP and Final Environmental Impact Statement (PRAMP/FEIS), published in May 2003. BLM received eleven protest(s) to the Proposed RAMP/FEIS. No inconsistencies with State or local plans, policies, or programs were identified during the Governor's consistency review of the Proposed RAMP/FEIS. As a result, only minor editorial modifications were made in preparing the final RAMP/ROD. These modifications corrected errors that were noted during review of the Proposed RAMP/FEIS and provide further clarification for some of the decisions. An errata sheet is included with the RAMP/Record of Decision that identifies the location of the corrections to the Proposed RAMP/FEIS.

Dated: February 7, 2005.
Larry Caffey,
Acting Field Manager.

[FR Doc. 05-6334 Filed 3-30-05; 8:45 am]

BILLING CODE 4310-40-P